DEPARTMENT OF ENERGY

Federal Energy Regulatory Commission

Combined Notice of Filings

Take notice that the Commission has received the following Natural Gas Pipeline Rate and Refund Report filings:

Filings Instituting Proceedings

Docket Numbers: PR13-62-000

Applicants: Columbia Gas of Maryland, Inc.

Description: Tariff filing per 284.123/.224: Statement of Operating

Conditions to be effective 8/30/2013

Filed Date: 8/30/13

Accession Number: 20130830-5107

Comments Due: 5 p.m. ET 9/20/13

Docket Numbers: PR13-63-000

Applicants: American Midstream (SIGCO Intrastate), LLC

Description: Tariff filing per 284.123(b)(2)/.: SIGCO Rate Petition to be effective 8/12/2013

Filed Date: 9/11/13

Accession Number: 20130911-5073

Comments Due: 5 p.m. ET 10/2/13

Docket Numbers: CP13-548-000

Applicants: Montana-Dakota Utilities Co.

Description: Application for a Limited Jurisdiction Blanket Certificate of Public Convenience and Necessity

Filed Date: 9/17/13

Accession Number: 20130917-5080

Comments Due: 5 p.m. ET 9/30/13

Docket Numbers: RP13-1329-000

Applicants: Southeast Supply Header, LLC

Description: Hourly Nomination/Scheduling Flexibility to be effective 10/16/2013

Filed Date: 9/16/13

Accession Number: 20130916-5112

Comments Due: 5 p.m. ET 9/30/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 18, 2013.
Nathaniel J. Davis, Sr.,
Deputy Secretary.

[FR Doc. 2013-23168 Filed 9-23-13; 8:45 am]

BILLING CODE 6717-01-P